DEPARTMENT OF THE INTERIOR

Office of the Secretary

[223D0102DM; DS65100000; DLSN00000.000000; DX.65101; Docket No. DOI-2022-0008]

Strengthening Public Trust in the Department of the Interior Law Enforcement Programs

AGENCY: Office of the Secretary, Interior.

ACTION: Notice of listening sessions and request for public comments.

SUMMARY: In an effort to identify opportunities for improvement in law enforcement programs of the Department of the Interior (DOI) (National Park Service, U.S. Fish and Wildlife Service, Bureau of Land Management, Bureau of Indian Affairs, and Bureau of Reclamation) and to strengthen public trust in the Department's law enforcement practices and policies, the DOI is hosting twelve (12) listening sessions open to the public. DOI seeks to engage with diverse stakeholders who interact with, are impacted by, or have experience with DOI Law Enforcement Officers to strengthen public relations and inform DOI law enforcement programs. Transparency, building public trust and ensuring accountability are key tenets that support equitable law enforcement experiences across diverse geographic and demographic populations. The public can submit comments through this Federal Register Notice which will inform themes and recommendations for the Department.

DATES: The Department of the Interior will hold twelve (12) virtual listening sessions on the following dates:

• Monday, June 13, 2022, from 6:00 p.m.-8:00 p.m. EDT

• Wednesday, June 15, 2022, from 9:00 p.m.-11:00 p.m. EDT

• Tuesday, June 21, 2022, from 3:00 p.m.-5:00 p.m. EDT

• Thursday, June 23, 2022, from 12:00 p.m.-2:00 p.m. EDT

• Saturday, June 25, 2022, from 2:00 p.m.-4:00 p.m. EDT

• Monday, June 27, 2022, from 8:00 p.m.-10:00 p.m. EDT

• Tuesday, June 28, 2022, from 5:00 p.m.-7:00 p.m. EDT

• Thursday, June 30, 2022, from 7:00 p.m.-9:00 p.m. EDT

• Wednesday, July 6, 2022, from 12:00 p.m.-2:00 p.m. EDT

• Wednesday, July 13, 2022, from 10:00 p.m.-12:00 a.m. EDT

• Thursday, July 14, 2022, from 7:00 p.m.-9:00 p.m. EDT

• Saturday, July 16, 2022, from 2:00 p.m.-4:00 p.m. EDT

Interested persons are also invited to submit comments in writing or online on or before August 2, 2022.

ADDRESSES: We invite you to submit comments on this notice. You may submit comments online at https://www.regulations.gov/ by entering “DOI-2022-0008” in the search bar and clicking “Search” or by mail to U.S. Department of the Interior, LE Task Force, 1849 C Street NW, MS 3428, Washington, DC 20240. You may respond to some, or all of the questions listed in the “Supplementary Information—Questions” section of this document. All public comments received are subject to the Freedom of Information Act and will be posted in their entirety at https://www.regulations.gov/, including any personal or business confidential information provided. Do not include any information you would not like to be made publicly available.

If you plan to attend one of the virtual listening sessions and need assistance in a language other than English or if you are a person with disabilities who needs a reasonable accommodation, please contact doilawenforcement@kearnswest.com.

FOR FURTHER INFORMATION CONTACT: Lisa Branum, DOI_LE_Taskforce_External@ios.doi.gov, (703-239-7126). Additionally, you can visit the DOI Law Enforcement Task Force website at: https://www.doi.gov/oles/doi-law-enforcement-task-force.

SUPPLEMENTARY INFORMATION:

Background

On July 7, 2021, Secretary Deb Haaland announced the establishment of a new departmental law enforcement task force to implement the highest standards for protecting the public and provide necessary policy guidance, resources, and training to agency personnel within the DOI. Led by Deputy Secretary of the Interior Tommy Beaudreau, the Task Force is responsible for implementing the Secretary's vision of utilizing an equity lens and evidence-based decision making to review and identify opportunities for improvement in law enforcement programs of the National Park Service, U.S. Fish and Wildlife Service, Bureau of Land Management, Bureau of Indian Affairs, and Bureau of Reclamation. The Task Force will focus on ways to (1) strengthen trust in our law enforcement programs; (2) ensure appropriate policy and oversight is implemented; and (3) ensure supportive resources are available for officer mental health, wellness, and safety.

A working group of subject matter experts, representatives of Bureaus with law enforcement programs, Bureau of Reclamation, and the DOI's Office of Law Enforcement and Security identified both internal and external key stakeholders that will inform this process. External stakeholders will include members of the public, visitors, advocacy groups, cooperating state and local organizations, neighbors and community members, and members of Tribes. With the goal of providing recommendations to improve the law enforcement programs within the DOI, the working group seeks input from these key stakeholders on DOI law enforcement services and areas for possible improvement.

DOI is conducting twelve (12) virtual listening sessions and inviting public comments to obtain stakeholder input on public perception of DOI law enforcement and understand how the DOI can best develop and maintain public trust, transparency, and legitimacy with its stakeholders.

Questions for Discussion

Polling Questions

• Location: Where are you participating from?

• Affiliation: What organization, tribe/nation, or association are you affiliated with?

Discussion Questions

• What are your perceptions of DOI law enforcement? What experiences or interactions have you had with them?

• How can the Interior best develop and maintain public trust, transparency, and legitimacy in the communities DOI law enforcement works in or serves?

• Is your perception of DOI law enforcement positive or negative? Which practices does DOI law enforcement engage in that inform your feelings about them?

• What recommendations or suggestions would you like to see adopted by DOI law enforcement (i.e., policies and practices, measures to increase diversity in officers to reflect the community, etc.)?

Comments received in response to this notice, from listening sessions and in writing, will be evaluated and, as appropriate, incorporated into DOI's effort to improve public trust in law enforcement.

Registration Information

Advanced registration for individuals and groups is strongly encouraged. For additional information about the listening sessions and to register for a listening session, please visit the DOI Law Enforcement Task Force website at: https://www.doi.gov/oles/doi-law-enforcement-task-force. Details for the sessions will be posted to the website.

Individuals in the United States who are deaf, deafblind, hard of hearing, or have a speech disability may dial 711 (TTY, TDD, or Tele Braille) to access telecommunications relay services. Individuals outside the United States should use the relay services offered within their country to make international calls to the point-of-contact in the United States.

This action is taken pursuant to delegated authority.

Joan M. Mooney,
Principal Deputy Assistant Secretary, Policy, Management and Budget.

[FR Doc. 2022-11892 Filed 6-2-22; 8:45 am]

BILLING CODE 4334-63-P